ENVIRONMENTAL PROTECTION AGENCY

40 CFR Part 52

[TX-134-8-7507; FRL-7011-3]

Approval and Promulgation of Implementation Plans; Texas; Control of Emissions of Nitrogen Oxides From Stationary Sources in the Houston/Galveston Ozone Nonattainment Area

AGENCY: Environmental Protection Agency (EPA).

ACTION: Proposed approval.

SUMMARY: The EPA is proposing approval of rules into the Texas State Implementation Plan (SIP). This rulemaking covers six separate actions. First, we are proposing to approve revisions to the Texas Nitrogen Oxides ( NOX) rules for point sources of NOX in the Houston/Galveston (H/GA) ozone nonattainment area of Texas as submitted to us by the State on December 22, 2000. These new limits for point sources of NOX in the H/GA will contribute to attainment of the 1-hour ozone National Ambient Air Quality Standard (NAAQS) in the H/GA 1-hour ozone nonattainment area. Second, we are proposing to exclude Carbon monoxide (CO) and ammonia emission limits ancillary to the NOX standards for post combustion controls found in Title 30 of the Texas Administrative Code (TAC), Chapter 117. Third, we are proposing to approve, by parallel processing, revisions to the Texas NOX rules for stationary diesel engines or stationary dual-fuel engines in the H/GA 1-hour ozone nonattainment area. Fourth, we are proposing to approve, through parallel processing, revisions made to the Texas SIP concerning compliance schedules for utility electric generation and Industrial, Commercial, and Institutional (ICI) sources in the H/GA area. Fifth, we are proposing to approve, through parallel processing, revisions made to the Texas SIP concerning lean-burn and rich-burn engines. Sixth, we are listing, not approving, the alternate NOX emissions specifications and reductions that the May 30, 2001, revision to the Texas SIP contains.

The EPA is proposing approval of SIP revisions described as actions number one, two, three, four, and five to regulate emissions of NOX as meeting the requirements of the Federal Clean Air Act (the Act).

DATES: Comments must be received on or before August 13, 2001.

ADDRESSES: Your comments on this action should be addressed to Mr. Thomas H. Diggs, Chief, Air Planning Section, Environmental Protection Agency, Region 6, 1445 Ross Avenue, Suite 700, Dallas, Texas 75202-2733. Copies of the documents about this action including the Technical Support Document, are available for public inspection during normal business hours at the following locations. Persons interested in examining these documents should make an appointment with the appropriate office at least 24 hours before the visiting day.

Environmental Protection Agency, Region 6, 1445 Ross Avenue, Suite 700, Dallas, Texas 75202-2733.

Texas Natural Resource Conservation Commission, Office of Air Quality, 12124 Park 35 Circle, Austin, Texas 78753.

FOR FURTHER INFORMATION CONTACT: Mr. Alan Shar, Air Planning Section (6PD-L), EPA Region 6, 1445 Ross Avenue, Dallas, Texas 75202-2733, telephone (214) 665-6691, and Shar.Alan@epa.gov.

SUPPLEMENTARY INFORMATION:

Table of Contents

1. What actions are we taking in this document?

2. What happened to the Texas SIP revision from December 22, 2000, to May 30, 2001?

3. What is the sixth action that we are taking in this document?

4. What does the proposed December 22, 2000, SIP revision for point sources of NOX in the H/GA area say?

5. What is the proposed compliance schedule for point sources of NOX in the H/GA area based upon the December 22, 2000, SIP revision?

6. What are the existing NOX emissions specifications, for stationary diesel engines or stationary dual-fuel engines, in the approved Texas SIP?

7. What does the proposed May 30, 2001, SIP revision for stationary diesel engines in the H/GA area say?

8. What is the proposed compliance schedule date for stationary diesel engines in the H/GA area based on the proposed May 30, 2001, SIP revision?

9. What does the proposed May 30, 2001, SIP revision for point sources of NOX in the H/GA area say?

10. What are the proposed NOX emissions specifications in the ICI source category for attainment demonstration within the H/GA area, based on the proposed May 30, 2001, SIP revision?

11. What are the proposed alternate NOX emissions specifications in the ICI source category for attainment demonstration within the H/GA area, based on the proposed May 30, 2001, SIP revision?

12. What are the NOX emissions reductions based on the proposed May 30, 2001, SIP revision?

13. What are the NOX emissions reductions based on the future adoption of the alternate NOX emissions specifications in the proposed May 30, 2001, SIP revision?

14. What is the proposed compliance schedule for utility electric generation point sources of NOX in the H/GA area based on the proposed May 30, 2001, SIP revision?

15. What is the proposed compliance schedule for utility electric generation point sources of NOX in the H/GA area under the alternate scenario in the proposed May 30, 2001, SIP revision?

16. What is the proposed compliance schedule for affected ICI sources of NOX in the H/GA area based on the proposed May 30, 2001, SIP revision?

17. What is the proposed compliance schedule for affected ICI sources of NOX in the H/GA area under the alternate scenario based on the proposed May 30, 2001, SIP revision?

18. What are NOX?

19. What is a nonattainment area?

20. What are definitions of major sources for NOX?

21. What is a State Implementation Plan?

22. What is the Federal approval process for a SIP?

23. What areas in Texas will the stationary diesel engines or stationary dual-fuel engines rule affect based on the proposed May 30, 2001, SIP revision?

24. What areas in Texas will the proposed May 30, 2001, SIP revision for point sources of NOX affect? Throughout this document “we,” “us,” and “our” means EPA.

1. What Actions Are We Taking in This Document?

On December 22, 2000, George W. Bush, then Governor of Texas, submitted rule revisions to 30 TAC, Chapter 117, “Control of Air Pollution From Nitrogen Compounds,” as a revision to the SIP for point sources in the H/GA. The State of Texas submitted this revision to us as a part of the NOX reductions needed for the H/GA area to attain the 1-hour ozone standard. These NOX reductions will assist H/GA to attain the 1-hour ozone standard.

The December 22, 2000, submittal required an 89 percent reduction in emissions of NOX from point sources in the H/GA area. In this document we are taking six separate actions:

(1) We are proposing to approve the December 22, 2000, rule revision to the Texas SIP.

(2) We are proposing to approve that the CO and ammonia emission limits found in 30 TAC Chapter 117 in conjunction with NOX emission limits, not be a part of the federally approved Texas SIP. In our 65 FR 64148 document published on October 26, 2000, and 65 FR 64914 document published on October 31, 2000, we included CO and ammonia emission limits, in addition to the NOX emission limits, as a part of the federally approved Texas SIP, by mistake. Texas did not originally request their inclusion and subsequently requested not to have these limits included as a part of the federally approved SIP. We are now correcting that error and are proposing that the limits on CO and ammonia emissions, resulting from use of post combustion controls, not be a part of the federally approved SIP for Texas.

(3) We are proposing to approve, through parallel processing, a procedure explained below, revisions made to sections of 30 TAC, Chapter 117 that Texas proposed on May 30, 2001, and submitted to us, concerning stationary diesel engines or stationary dual-fuel engines under Part D of the Act because Texas is relying on these NOX reductions to demonstrate attainment of the 1-hour ozone standard in the H/GA 1-hr ozone nonattainment area.

(4) We are proposing to approve, through parallel processing, revisions made to sections of 30 TAC, Chapter 117 that Texas proposed on May 30, 2001, and submitted to us, concerning NOX emissions specifications and compliance schedules for utility electric generation and ICI sources in the H/GA area. Section 9, Table VI, section 14, Table XII, and section 16, Table XIV of this document contain more information about action number four.

(5) We are proposing to approve, through parallel processing, revisions made to sections of 30 TAC, Chapter 117 that Texas proposed on May 30, 2001, and submitted to us, concerning both the lean-burn and rich-burn reciprocating internal combustion engines. Section 10, Table VIII of this document contains more information about action number five.

We will explain action number six in section 3 of this document. To better understand action number six in this document we strongly recommend you read section 2, first.

The public comment period for this proposed State rule revision closes on July 2, 2001. If the State makes significant changes between the version we are parallel processing and the final adopted version, other than those changes resulting from issues discussed in this proposed rulemaking, we will issue an additional notice of proposed rulemaking before taking final action. If there are no significant changes and the State submits the final rule revision to us for approval, then we will go ahead with a final rulemaking.

In this document we are not proposing to approve the alternate or less stringent NOX emissions specifications and less stringent emissions reductions that are part of the proposed May 30, 2001, Texas SIP revision, at this time. Section 9, Table VII, section 11, Table IX, section 13, Table XI, section 15, Table XIII, and section 17, Table XV of this document contain more information about parts of the proposed May 31, 2001, Texas SIP revision that we are not proposing to approve in this rulemaking action.

Table I contains a summary list of the sections of 30 TAC, Chapter 117 that Texas proposed on May 30, 2001, for sources of NOX in the H/GA.

Table I.—Section Numbers and Section Descriptions of 30 TAC, Chapter 117 Affected by the May 30, 2001, Proposed Rule Revision
Section | Description
117.10 | Definitions.
117.101 | Applicability.
117.103 | Exemptions.
117.105 | Emission Specifications for Reasonably Available Control Technology.
117.106 | Emission Specifications for Attainment Demonstrations.
117.107 | Alternative System-wide Emission Specifications.
117.108 | System Cap.
117.110 | System Cap.
117.111 | Initial Demonstration of Compliance.
117.113 | Continuous Demonstration of Compliance.
117.114 | Emission Testing and Monitoring for the Houston/Galveston Attainment Demonstration.
117.116 | Final Control Plan Procedures for Attainment Demonstration Emission Specifications.
117.119 | Notification, Recordkeeping, and Reporting Requirements.
117.121 | Alternative Case Specific Specifications.
117.138 | System Cap.
117.201 | Applicability.
117.203 | Exemptions.
117.205 | Emission Specifications for Reasonably Available Control Technology (RACT).
117.206 | Emission Specifications for Attainment Demonstrations.
117.207 | Alternative Plant-wide Emission Specifications.
117.208 | Operating Requirements.
117.210 | System Cap.
117.211 | Initial Demonstration of Compliance.
117.213 | Continuous Demonstration of Compliance.
117.214 | Emission Testing and Monitoring for the Houston/Galveston Attainment Demonstration.
117.216 | Final Control Plan Procedures for Attainment Demonstration Emission Specifications.
117.219 | Notification, Recordkeeping, and Reporting Requirements.
117.221 | Alternative Case Specific Specifications.
117.471 | Applicability.
117.473 | Exemptions.
117.475 | Emission Specifications.
117.478 | Operating Requirements.
117.479 | Monitoring, Recordkeeping, and Reporting Requirements.
117.510 | Compliance Schedule for Utility Electric Generation in Ozone Nonattainment Areas.
117.520 | Compliance Schedule for Industrial, Commercial, and Institutional Combustion Sources in Ozone Nonattainment areas.
117.534 | Compliance Schedule for Boilers, Process Heaters, Stationary Engines, and Gas Turbines at Minor Sources.
117.570 | Use of Emissions Credits for Compliance.

2. What Happened to the Texas SIP Revision Between December 22, 2000, and May 30, 2001?

On January 19, 2001, a coalition of industries known as the BCCA Appeal Group, joined by Enterprise Products Operating, L.P., Equistar Chemicals, L.P., Lyondell Chemical Company, Lyondell-Citgo Refining, L.P., and Reliant Energy, Incorporated (collectively, Plaintiffs) filed a law suit against the TNRCC, TNRCC's Commissioners, and its Executive Director (Defendants) in the District Court of Travis County of Texas. Among other issues, the suit challenged the requirements of the December 22, 2000, submittal concerning revisions to 30 TAC, Chapter 117 for point sources of NOX in the H/GA area. The Plaintiffs and Defendants arrived at a negotiated settlement on May 18, 2001. As a result of this settlement, the TNRCC proposed a revision to the 30 TAC, Chapter 117, “Control of Air Pollution From Nitrogen Compounds,” for point sources in the H/GA area, on May 30, 2001.

On June 15, 2001, Texas Governor Rick Perry submitted a request letter to us asking to process the May 30, 2001, proposed rule revisions to 30 TAC, Chapter 117, as a revision to the SIP from point sources in the H/GA, through parallel processing. The State of Texas submitted this revision to us as a part of the NOX reductions needed for the H/GA area to attain the 1-hour ozone standard.

Under the settlement agreement with BCCA, the TNRCC will conduct a scientific study (Study) examining the causes and possible solutions to the H/GA area's 1-hour ozone nonattainment problem. This Study will assess the impact of reducing emissions of the industrial based VOC due to episodic releases. If the Study shows that the area can reach attainment by 2007 with fewer NOX emission reductions from point sources of NOX concurrent with other emission reduction strategies and plans, then the alternate (less stringent when compared with Table II) NOX emission specifications may take effect for attainment demonstration purposes in the H/GA area.

The TNRCC will have to make its determination and decision in the form of a rulemaking on the Study no later than June 1, 2002. The State will then need to submit any resulting rulemaking to EPA for evaluation and review as a SIP revision.

The Study may also show that reducing VOCs emissions from episodic releases or other emission reduction strategies may not result in the area reaching attainment. In that case, the alternate NOX emission specifications and less stringent NOX emission reductions will not be appropriate choices to bring the H/GA area into attainment.

We want to make it clear that regardless of the findings of this Study, or its potential follow up study, the 2007 deadline for compliance with the federal 1-hr ozone standard in the H/GA area will remain unchanged. Any new control strategy will have to achieve attainment with the federal 1-hr ozone standard by 2007.

We want to make it clear that our listing of the alternate NOX emissions specifications, alternate compliance schedules, and alternate overall point sources NOX reductions (May 30, 2001, revision) in this document is by no means indicative of EPA's approval of these listings for point sources of NOX in the H/GA area.

3. What Is the Sixth Action That We Are Taking in This Document?

(6) We are listing, not approving, the requirements of the May 30, 2001, revision to the Texas SIP, including its alternate (less stringent) NOX emission specifications and reduction plans, in this document. By listing the requirements of the May 30, 2001, revision to the Texas SIP, including its alternate NOX emission specifications and reduction plans, we are not approving these requirements. We will evaluate the alternate emission specifications and requirements proposed in the May 30, 2001, revision to the Texas SIP under the following conditions: (1) the area can reach attainment by 2007 with fewer NOX emission reductions from point sources, and (2) the State renews the request to include the alternative specifications and requirements in the SIP, or (3) an evaluation is otherwise appropriate.

To find out more about the proposed May 30, 2001, revision to the Texas SIP, including its alternate NOX emission specifications and plans, see sections 9 through 17 of this document.

4. What Does the Proposed December 22, 2000, SIP Revision for Point Sources of NOX in the H/GA Area Say?

This rule revision requires reductions of NOX emissions from point sources in the H/GA ozone nonattainment area. The following table contains a summary of the NOX emission specifications for attainment demonstration purposes that the State adopted in the December 22, 2000, SIP revision for point sources in the H/GA.

Table II.—Affected Sources and NOX Emission Specifications for Attainment Demonstration in the H/GA
Source | NOX emission specification for attainment demonstration
Utility boilers | 0.010-0.060 lb/MMBtu.
Turbines and Duct Burners | 0.015-0.150 lb/MMBtu.
Heaters and Furnaces | 0.010-0.036 lb/MMBtu.
Internal Combustion Engines | 0.045-0.133 lb/MMBtu or 0.17-0.50 gram/hp-hr.
Industrial Boilers | 0.010-0.089 lb/MMBtu.

The proposed rulemaking will control/reduce NOX emissions in the H/GA area in two phases or Tiers. We will refer to these two emission reduction phases as Tier I and Tier II Reductions. The following Table contains a summary of the 1997 NOX emissions and the proposed emission reductions for each point source category in the H/GA area.

We are proposing approval of the above-listed NOX emissions specifications for point sources of NOX in the H/GA as a part of the Texas 1-hour ozone SIP under Part D of the Act because Texas is relying on the NOX control measures to demonstrate attainment of the 1-hour ozone standard in the H/GA nonattainment area.

Table III.—Affected Point Sources, 1997 Emissions, and Proposed Emission Reductions for the H/GA
Sources | 1997 NOX emissions, tons per day (tpd) | Tier I + Tier II reductions, (tpd)
Utility Boilers | 196.44 | 184
Turbines and Duct Burners | 155.65 | 141
Process Heaters and Furnaces | 110.12 | 97
Internal Combustion Engines | 86.37 | 75
Industrial Boilers | 85.98 | 79
Other | 32.99 | 19
Overall Point Sources | 667.55 | 595

The combined NOX emission reductions of Tier I and Tier II in the proposed rulemaking will be 595 tpd or 89 percent, when compared to the 1997 emission levels. We are proposing approval of the overall NOX point sources reductions in the H/GA as a part of the Texas 1-hour ozone SIP under part D of the Act because Texas is relying on the NOX control measures to demonstrate attainment of the 1-hour ozone standard in the H/GA nonattainment area.

5. What Is the Proposed Compliance Schedule for Point Sources of NOX in the H/GA Area Based Upon the December 22, 2000, SIP Revision?

As stated before, this rule revision offers a phased-in approach concerning the emission reductions and compliance schedule for point sources of NOX in the H/GA. The following table contains a summary of the time-table/compliance schedule for the affected point sources of NOX in the H/GA.

Table IV.—Affected Sources of NOX in the H/GA and Compliance Schedules
Sources | Compliance schedule | Additional information
Utility Electric Generation | March 31, 2003 | Investor-owned; first 46% of total required NOX reductions.
Utility Electric Generation | March 31, 2004 | Investor-owned; the next 46% required NOX reductions.
Utility Electric Generation | March 31, 2007 | Investor-owned; final required NOX reductions.
Industrial, Commercial, and Institutional Combustion Sources | March 31, 2004 | First 44% of required NOX reductions.
Industrial, Commercial, and Institutional Combustion Sources | March 31, 2005 | Next 45% of required NOX reductions.
Industrial, Commercial, and Institutional Combustion Sources | March 31, 2007 | Final NOX reductions.
Boilers, Process Heaters, and Stationary Engines at Minor Sources | March 31, 2005 | In cap and trade program.
Boilers, Process Heaters, and Stationary Engines at Minor Sources | March 31, 2005 | Not in cap and trade program.

We are of the opinion that the above listed compliance dates and time-table combined with the cap and trade provisions of the rule offer operational flexibility to the affected point sources in the H/GA. We are proposing approval of the above-listed compliance dates for point sources of NOX in the H/GA as a part of the Texas 1-hour ozone SIP under Part D of the Act because Texas is relying on the NOX control measures to demonstrate attainment of the 1-hour ozone standard in the H/GA nonattainment area.

6. What Are the Existing NOX Emissions Specifications, for Stationary Diesel Engines or Stationary Dual-Fuel Engines, in the Approved Texas SIP?

None. Prior to May 30, 2001, the TNRCC had not proposed regulations in the Texas SIP limiting NOX emissions from stationary diesel engines or stationary dual-fuel engines.

7. What Does the Proposed May 30, 2001, SIP Revision for Stationary Diesel Engines in the H/GA Area Say?

This proposed rule revision requires reductions of NOX emissions from stationary diesel engines in the H/GA area. The following table contains a summary of the proposed May 30, 2001, SIP revision for stationary diesel engines in the H/GA area.

Table V.—Affected Sources and NOX Emission Specifications for Stationary Diesel Engines in the H/GA Area
Source | NOX Emission specification
Diesel engines in service after October 1, 2001: not modified, reconstructed, or relocated on or after October 1, 2001 | 11.0 gram/hp-hr.
Rated less than 11 hp: modified, reconstructed, or relocated on or after October 1, 2001, but before October 1, 2004 | 7.0 gram/hp-hr.
Rated less than 11 hp: modified, reconstructed, or relocated on or after October 1, 2004 | 5.0 gram/hp-hr
11 hp ≤ rated < 25 hp: installed, modified, reconstructed, or relocated on or after October 1, 2001, but before October 1, 2004 | 6.3 gram/hp-hr.
11 hp ≤ rated < 25 hp: installed, modified, reconstructed, or relocated on or after October 1, 2004 | 5.0 gram/hp-hr.
25 hp ≤ rated < 50 hp: installed, modified, reconstructed, or relocated on or after October 1, 2001, but before October 1, 2003 | 6.3 gram/hp-hr.
25 hp ≤ rated < 50 hp: installed, modified, reconstructed, or relocated on or after October 1, 2003 | 5.0 gram/hp-hr.
50 hp ≤ rated < 100 hp: installed, modified, reconstructed, or relocated on or after October 1, 2001, but before October 1, 2003 | 6.9 gram/hp-hr.
50 hp ≤ rated < 100 hp: installed, modified, reconstructed, or relocated on or after October 1, 2003 | 5.0 gram/hp-hr.
50 hp ≤ rated < 100 hp: installed, modified, reconstructed, or relocated on or after October 1, 2007 | 3.3 gram/hp-hr.
100 hp ≤ rated < 175 hp: installed, modified, reconstructed, or relocated on or after October 1, 2001, but before October 1, 2002 | 6.9 gram/hp-hr.
100 hp ≤ rated < 175 hp: installed, modified, reconstructed, or relocated on or after October 1, 2002, but before October 1, 2006 | 4.5 gram/hp-hr.
100 hp ≤ rated < 175 hp: installed, modified, reconstructed, or relocated on or after October 1, 2006 | 2.8 gram/hp-hr.
175 hp ≤ rated < 300 hp: installed, modified, reconstructed, or relocated on or after October 1, 2001, but before October 1, 2002 | 6.9 gram/hp-hr.
175 hp ≤ rated < 300 hp: installed, modified, reconstructed, or relocated on or after October 1, 2002, but before October 1, 2005 | 4.5 gram/hp-hr.
175 hp ≤ rated < 300 hp: installed, modified, reconstructed, or relocated on or after October 1, 2005 | 2.8 gram/hp-hr.
300 hp ≤ rated < 600 hp: installed, modified, reconstructed, or relocated on or after October 1, 2001, but before October 1, 2005 | 4.5 gram/hp-hr.
300 hp ≤ rated < 600 hp: installed, modified, reconstructed, or relocated on or after October 1, 2005 | 2.8 gram/hp-hr.
600 hp ≤ rated < 750 hp: installed, modified, reconstructed, or relocated on or after October 1, 2001, but before October 1, 2005 | 4.5 gram/hp-hr.
600 hp ≤ rated < 750 hp: installed, modified, reconstructed, or relocated on or after October 1, 2005 | 2.8 gram/hp-hr.
Rated ≥ 750 hp: installed, modified, reconstructed, or relocated on or after October 1, 2001, but before October 1, 2005 | 6.9 gram/hp-hr.
Rated ≥ 750 hp: installed, modified, reconstructed, or relocated on or after October 1, 2005 | 4.5 gram/hp-hr.

We are of the opinion that these emission specifications are in agreement with those found in Code of Federal Regulations (CFR), Title 40, § 89.112, and EPA's Document Number 420-R-98-016 dated August 1998, entitled “Final Regulatory Impact Analysis: Control of Emissions from Nonroad Diesel Engines.” We are also of the opinion that these NOX emission specifications will contribute to the attainment of the 1-hr ozone standard in the H/GA area. The estimated NOX emission reductions attributed to the stationary diesel engines or stationary dual-fuel engines provisions of this rule revision is 1.00 tpd.

We are proposing approval of these stationary diesel engines or stationary dual-fuel engines rule revisions under Part D of the Act because Texas is relying on these NOX reductions to demonstrate attainment of the 1-hour ozone standard in the H/GA 1-hr ozone nonattainment area.

8. What Is the Proposed Compliance Schedule Date for Stationary Diesel Engines in the H/GA Area Based on the Proposed May 30, 2001, SIP Revision?

Under the May 30, 2001, Texas SIP revision, the proposed compliance date for stationary diesel engines and stationary dual-fuel engines in the H/GA area is April 1, 2002. See sections 117.520 and 117.534 of the proposed rule. We consider the April 1, 2002, compliance date for stationary diesel engines and dual-fuel engines, in the H/GA area, as expeditious as practicable.

We are proposing approval of these stationary diesel engines or stationary dual-fuel engines compliance schedules under Part D of the Act because Texas is relying on these NOX reductions to demonstrate attainment of the 1-hour ozone standard in the H/GA 1-hr ozone nonattainment area.

9. What Does the Proposed May 30, 2001, SIP Revision for Point Sources of NOX in the H/GA Area Say?

This rule revision requires reductions of NOX emissions from point sources in the H/GA ozone nonattainment area. The following table contains a summary of the NOX emission specifications for attainment demonstration purposes that the State has proposed to adopt in the SIP revision for point sources in the H/GA.

Table VI.—Affected Sources and NOX Emission Specifications for Attainment Demonstration in the H/GA
Source | NOX emission specification for attainment demonstration
Utility boilers, gas fired | 0.020 lb/MMBtu
Utility boilers, coal-fired or oil-fired | 0.040 lb/MMBtu
Auxiliary steam boilers | 0.010-0.036 lb/MMBtu
Stationary gas turbines + duct burners in turbine exhaust | 0.015-0.150 lb/MMBtu

We are of the opinion that NOX emission specifications listed in Table VI will contribute to attainment of the 1-hr ozone standard in the H/GA area. We are proposing approval of the above-listed NOX emissions specifications for affected point sources of NOX in the H/GA as a part of the Texas 1-hour ozone SIP under part D of the Act because Texas is relying on the NOX control measures to demonstrate attainment of the 1-hour ozone standard in the H/GA nonattainment area.

Table VII.—Affected Sources and NOX Emission Specifications for Attainment Demonstration in the H/GA Under Alternate Scenario
Source | NOX emission specification for attainment demonstration
Utility boilers, gas fired | 0.030 lb/MMBtu
Utility boilers, coal-fired or oil-fired: wall-fired | 0.050 lb/MMBtu
Utility boilers, coal-fired or oil-fired: tangential-fired | 0.045 lb/MMBtu
Auxiliary steam boilers | 0.030 lb/MMBtu
Stationary gas turbines + duct burners in turbine exhaust | 0.032 lb/MMBtu

We are not proposing to approve, through parallel processing, the alternate scenario listed in Table VII of this document.

Instead of adopting NOX emission specifications listed in Tables II or VII of this document for affected sources with an annual capacity factor of 0.0383 or less, a source or operator can use an emission specification of 0.060 lb NOX per million Btu. This option will allow for operational flexibility in the rule.

10. What Are the Proposed NOX Emissions Specifications in ICI Source Category for Attainment Demonstration Within the H/GA Area, Based on the Proposed May 30, 2001, SIP Revision?

You can find proposed NOX emissions specifications for the ICI source category within the H/GA for attainment demonstration purposes in the H/GA in the following table.

Table VIII.—Affected Industrial, Commercial, and Institutional Combustion Sources and Their NOX Emission Specifications for Attainment Demonstration in the H/GA
Source | NOX emission specification for attainment demonstration
Stationary, reciprocating internal combustion engines: gas-fired rich-burn firing landfill gas | 0.60 gram/hp-hr.
Stationary, reciprocating internal combustion engines: gas-fired rich-burn not firing on landfill gas | 0.17 gram/hp-hr.
Stationary, reciprocating internal combustion engines: gas-fired lean-burn firing on landfill gas | 0.60 gram/hp-hr.
Stationary, reciprocating internal combustion engines: gas-fired rich-burn not firing on landfill gas | 0.50 gram/hp-hr.
Dual fuel engines with initial start of operation on or before December 31, 2000 | 5.83 gram/hp-hr.
Dual fuel engines with initial start of operation after December 31, 2000 | 0.50 gram/hp-hr.
Gas-fired boilers | 0.010-0.036 lb/MMBtu.
Fluid catalytic cracking units. Includes CO boilers, CO furnaces, and catalyst regenerator vents | 13 ppm @ zero percent O2, dry basis.
Boilers and industrial furnaces | 0.015-0.030 lb/MMBtu.
Coke-fired boilers | 0.057 lb/MMBtu.
Wood fuel-fired boilers | 0.046 lb/MMBtu.
Rice hull-fired boilers | 0.089 lb/MMBtu.
Oil-fired boilers | 2.0 lb/1,000 gallons of oil burned.
Process heaters | 0.010-0.036 lb/MMBtu.
Stationary gas turbines | 0.015-0.15 lb/MMBtu.
Duct burners in turbine exhaust ducts | 0.015 lb/MMBtu.
Pulping liquor recovery furnaces | 0.050 lb/MMBtu or 1.08 lb/ADTP.
Lime kilns | 0.66 lb/ton of CaO.
Lightweight aggregate kilns | 0.76 lb/ton of product.
Metallurgical heat treat furnaces | 0.087 lb/MMBtu.
Metallurgical reheat furnaces | 0.062 lb/MMBtu.
Incinerators | 0.030 lb/MMBtu.

We are proposing approval of the above-listed NOX emissions specifications for point sources of NOX in the H/GA as a part of the Texas 1-hour ozone SIP under part D of the Act because Texas is relying on the NOX control measures to demonstrate attainment of the 1-hour ozone standard in the H/GA nonattainment area.

Instead of adopting NOX emission specifications listed in Table VIII of this document for affected sources with an annual capacity factor of 0.0383 or less, a source or operator can use an emission specification of 0.060 lb NOX per million Btu. This option will allow for operational flexibility in the rule.

11. What Are the Proposed Alternate NOX Emissions specifications in the ICI Source Category for Attainment Demonstration Within the H/GA Area, Based on the Proposed May 30, 2001, SIP Revision?

You can find the proposed alternate NOX emissions specifications in the ICI source category for attainment demonstration within the H/GA area in the following table:

Table IX.—Affected ICI Sources and Their Alternate NOX Emission Specifications for Attainment Demonstration Within the H/GA Area
Source | NOX Emission specification for attainment demonstration
Stationary, reciprocating internal combustion engines: gas-fired rich-burn firing landfill gas | 0.60 gram/hp-hr.
Stationary, reciprocating internal combustion engines: gas-fired rich-burn not firing on landfill gas | 0.50 gram/hp-hr.
Stationary, reciprocating internal combustion engines: gas-fired lean-burn firing on landfill gas | 0.60 gram/hp-hr.
Stationary, reciprocating internal combustion engines: gas-fired rich-burn not firing on landfill gas | 0.50 gram/hp-hr.
Dual fuel engines with initial start of operation on or before December 31, 2000 | 5.83 gram/hp-hr.
Dual fuel engines with initial start of operation after December 31, 2000 | 0.50 gram/hp-hr.
Gas-fired boilers | 0.020-0.036 lb/MMBtu.
Fluid catalytic cracking units. Includes CO boilers, CO furnaces, and catalyst regenerator vents | 40 ppmv @ zero percent O2, dry basis.
Boilers and industrial furnaces | 0.015-0.030 lb/MMBtu.
Coke-fired boilers | 0.057 lb/MMBtu.
Wood fuel-fired boilers | 0.046 lb/MMBtu.
Rice hull-fired boilers | 0.089 lb/MMBtu.
Oil-fired boilers | 2.0 lb/1,000 gallons of oil burned.
Process heaters except pyrolysis reactors | 0.025-0.036 lb/MMBtu.
Pyrolysis reactors | 0.036 lb/MMBtu.
Stationary gas turbines | 0.032-0.26 lb/MMBtu.
Duct burners in turbine exhaust ducts | 0.032-0.26 lb/MMBtu.
Pulping liquor recovery furnaces | 0.050 lb/MMBtu or 1.08 lb/ADTP.
Lime kilns | 0.66 lb/ton of CaO.
Lightweight aggregate kilns | 0.76 lb/ton of product.
Metallurgical heat treat furnaces | 0.087 lb/MMBtu.
Metallurgical reheat furnaces | 0.062 lb/MMBtu.
Incinerators | 0.030 lb/MMBtu.

We are not proposing to approve, through parallel processing, the alternate scenario information listed in Table IX of this document.

Instead of adopting NOX emission specifications listed in Table IX of this document for affected sources with an annual capacity factor of 0.0383 or less, a source or operator can use an emission specification of 0.060 lb NOX per million Btu. This option will allow for operational flexibility in the rule.

12. What Are the NOX Emissions Reductions Based on the Proposed May 30, 2001, SIP Revision?

The proposed rulemaking will control/reduce NOX emissions in the H/GA area in two phases or Tiers. As stated before, we will refer to these two emission reduction phases as Tier I and Tier II Reductions. The following Table contains a summary of the 1997 NOX emissions and the May 30, 2001, proposed emission reductions for each point source category in the H/GA area.

Table X.—Affected Point Sources, 1997 Emissions, and Proposed Emission Reductions for the H/GA
Sources | 1997 NOX emissions, tons per day (tpd) | Tier I + Tier II reductions, (tpd)
Utility Boilers | 196.44 | 176
Turbines and Duct Burners | 155.65 | 141
Process Heaters and Furnaces | 110.12 | 97
Internal Combustion Engines | 86.37 | 77
Industrial Boilers | 85.98 | 79
Other | 32.99 | 19
Overall Point Sources | 667.55 | 588

The combined NOX emission reductions of Tier I and Tier II in this version of the proposed rulemaking will be 588 tpd or 88 percent, when compared to the 1997 emission levels. The change in overall point sources NOX reductions in Table X, as compared with that of Table III, is due to revisions to the requirements of subsections 117.106(c)(1) and 117.206(c)(9)(D).

13. What Are the NOX Emissions Reductions Based on the Future Adoption of the Alternate NOX Emission Specifications in the Proposed May 30, 2001, SIP Revision?

If the State adopts the alternate NOX emission specifications of Tables VII and IX in future, the expected emission reductions for each point source category in the H/GA area would be as follows:

Table XI.—Affected Point Sources, 1997 Emissions, and Proposed Emission Reductions for the H/GA Under the Alternate Scenario
Sources | 1997 NOX emissions, tons per day (tpd) | Tier I + Tier II reductions, (tpd)
Utility Boilers | 196.44 | 169
Turbines and Duct Burners | 155.65 | 122
Process Heaters and Furnaces | 110.12 | 63-86
Internal Combustion Engines | 86.37 | 76
Industrial Boilers | 85.98 | 76
Other | 32.99 | 16
Overall Point Sources | 667.55 | 522-545

The combined NOX emission reductions of Tier I and Tier II under the alternate scenario of the proposed rulemaking would be 522-545 tpd or 78-82 percent, when compared to the 1997 emission levels. The change in overall point sources NOX reductions in Table XI, as compared with that of Table III, is due to revisions to the requirements of subsections 117.106(c)(1) and 117.206(c)(9)(D).

We are not proposing to approve, through parallel processing, the alternate scenario listed in Table XI of this document.

14. What Is the Proposed Compliance Schedule for Utility Electric Generation Point Sources of NOX in the H/GA Area Based on the Proposed May 30, 2001, SIP Revision?

As stated before, this rule revision introduces a phased-in approach concerning the emission reductions and compliance schedule for point sources of NOX in the H/GA. The following table contains a summary of the time-table/compliance schedule for the affected utility electric generation point sources of NOX in the H/GA.

Table XII.—Affected Sources of NOX in the H/GA and Compliance Schedules
Sources | Compliance schedule | Additional information
Utility Electric Generation | March 31, 2003 | At least 47% of total required NOX reductions.
Utility Electric Generation | March 31, 2004 | At least 95% of total required NOX reductions.
Utility Electric Generation | March 31, 2007 | Demonstrate compliance with system cap limits of 117.108.

We are of the opinion that the above-listed compliance dates and time-table for affected sources offer operational flexibility to the rule. We are proposing approval of the above-listed compliance dates for affected point sources of NOX in the H/GA as a part of the Texas 1-hour ozone SIP under part D of the Act because Texas is relying on the NOX control measures to demonstrate attainment of the 1-hour ozone standard in the H/GA nonattainment area.

15. What Is the Proposed Compliance Schedule for Utility Electric Generation Point Sources of NOX in the H/GA Area Under the Alternate Scenario in the Proposed May 30, 2001, SIP Revision?

If the TNRCC adopts the alternate emissions specifications, the proposed compliance schedule for ICI sources of NOX in the H/GA under the alternate scenario would be as follows:

Table XIII.—Affected Sources of NOX in the H/GA and Alternate Compliance Schedules
Sources | Compliance schedule | Additional information
Utility Electric Generation | March 31, 2003 | At least 50% of total required NOX reductions.
Utility Electric Generation | March 31, 2004 | Demonstrate compliance with system cap limits of 117.108.

We are not proposing to approve, through parallel processing, the alternate scenario listed in Table XIII of this document.

16. What Is the Proposed Compliance Schedule for Affected ICI Sources of NOX in the H/GA Area Based on the Proposed May 30, 2001, SIP Revision?

As stated in section 10, this rule revision offers a phased-in approach concerning the emission reductions and compliance schedule for point sources of NOX in the H/GA area. The following table contains a summary of the time-table/compliance schedule for the affected ICI sources of NOX in the H/GA area.

Table XIV.—Affected ICI Sources of NOX in the H/GA Area and Compliance Schedules
Sources | Compliance schedule | Additional information
ICI sources | March 31, 2004 | At least 39% of total required NOX reductions.
ICI sources | March 31, 2005 | At least 67% of total required NOX reductions.
ICI sources | March 31, 2006 | At least 78% of total required NOX reductions.
ICI sources | March 31, 2007 | Demonstrate compliance with system cap limits of 117.210.

We are proposing approval of the above-listed compliance dates for affected ICI sources of NOX in the H/GA as a part of the Texas 1-hour ozone SIP under part D of the Act because Texas is relying on the NOX control measures to demonstrate attainment of the 1-hour ozone standard in the H/GA nonattainment area.

17. What Is the Proposed Compliance Schedule for ICI Sources of NOX in the H/GA Area Under the Alternate Scenario Based on the Proposed May 30, 2001, SIP Revision?

If the TNRCC adopts the alternate emissions specifications, the proposed compliance schedule for ICI sources of NOX in the H/GA area under the alternate scenario would be as follows:

Table XV.—Affected Sources of NOX in the H/GA Area and Alternate Compliance Schedules
Sources | Compliance schedule | Additional information
ICI sources | March 31, 2004 | At least 47% of total required NOX reductions.
ICI sources | March 31, 2005 | At least 80% of total required NOX reductions.
ICI sources | March 31, 2006 | At least 93% of total required NOX reductions.
ICI sources | March 31, 2007 | Demonstrate compliance with system cap limits of 117.210.

We are not proposing to approve, through parallel processing, the alternate scenario listed in Table XV of this document.

18. What Are NOX?

Nitrogen oxides belong to the group of criteria air pollutants. The NOX result from burning fuels, including gasoline and coal. Nitrogen oxides react with volatile organic compounds (VOC) to form ozone or smog, and are also major components of acid rain.

19. What Is a Nonattainment Area?

A nonattainment area is a geographic area in which the level of a criteria air pollutant is higher than the level allowed by Federal standards. A single geographic area may have acceptable levels of one criteria air pollutant but unacceptable levels of one or more other criteria air pollutants; thus, a geographic area can be attainment for one criteria pollutant and nonattainment for another criteria pollutant at the same time.

20. What Are Definitions of Major Sources for NOX?

Section 302 of the Act generally defines “major stationary source” as a facility or source of air pollution which emits, when uncontrolled, 100 tons per year (tpy) or more of air pollution. This general definition applies unless another specific provision of the Act explicitly defines major source differently.

According to section 182(d) of the Act, a major source in a severe nonattainment area is a source that emits, when uncontrolled, 25 tpy or more of NOX. The H/GA area is a severe ozone nonattainment area, so the major source size for the H/GA area is 25 tpy or more, when uncontrolled. This rulemaking will regulate NOX emissions from major stationary sources in the H/GA area.

21. What Is a State Implementation Plan?

Section 110 of the Act requires States to develop air pollution regulations and control strategies to ensure that State air quality meets the NAAQS that EPA has established. Under section 109 of the Act, EPA established the NAAQS to protect public health. The NAAQS address six criteria pollutants. These criteria pollutants are: Carbon monoxide, nitrogen dioxide, ozone, lead, particulate matter, and sulfur dioxide.

Each State must submit these regulations and control strategies to us for approval and incorporation into the federally enforceable SIP. Each State has a SIP designed to protect air quality. These SIPs can be extensive, containing State regulations or other enforceable documents and supporting information such as emission inventories, monitoring networks, and modeling demonstrations.

22. What Does Federal Approval of a SIP Mean to Me?

A State may enforce State regulations before and after we incorporate those regulations into a federally approved SIP. After we incorporate those regulations into a federally approved SIP, both EPA and the public may also take enforcement action against violators of these regulations.

23. What Areas in Texas Will the Stationary Diesel Engines or Stationary Dual-Fuel Engines Rule Affect Based on the May 30, 2001, SIP Revision?

The following table contains a list of counties affected by the proposed rule revision of the stationary diesel engines or dual-fuel engines that we are parallel processing for approval.

Table XVI.—Rule Log Number and Affected Areas for Texas NOX SIP
Rule log No. | Affected areas
2001-007B-117-AI Stationary diesel engines and dual-fuel engines provisions | Brazoria, Chambers, Fort Bend, Galveston, Harris, Liberty, Montgomery, and Waller counties.

If you are in one of these Texas counties, you should refer to the Texas NOX rules to determine if and how today's action will affect you.

24. What Areas in Texas Will the May 30, 2001, SIP Revision for Point Sources of NOX Affect?

The following table contains a list of counties affected by the proposed rule revision of the point sources of NOX that we are parallel processing for approval.

Table XVII.—Rule Log Number and Affected Areas for Texas NOX SIP
Rule log No. | Affected areas
2001-007B-117-AI ICI and electric utility sources | Brazoria, Chambers, Fort Bend, Galveston, Harris, Liberty, Montgomery, and Waller counties.

Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely approves state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). For the same reason, this proposed rule also does not significantly or uniquely affect the communities of tribal governments, as specified by Executive Order 13084 (63 FR 27655, May 10, 1998). This proposed rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. The proposed rule does not involve special consideration of environmental justice related issues as required by Executive Order 12898 (59 FR 7629, February 16, 1994). As required by section 3 of Executive Order 12988 (61 FR 4729, February 7, 1996), in issuing this proposed rule, EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings.” This proposed rule does not impose an information collection burden under the provisions of the Paperwork Reduction Act of 1995 (44 U.S.C. 3501 et seq.).

List of Subjects in 40 CFR Part 52

Environmental protection, Air pollution control, Carbon monoxide, Hydrocarbons, Nitrogen dioxide, Nitrogen oxides, Nonattainment, Ozone, Reporting and recordkeeping requirements, Volatile organic compounds.

Authority: 42 U.S.C. 7401 et seq.

Dated: July 3, 2001.
Jerry Clifford,
Acting Regional Administrator, Region 6.

[FR Doc. 01-17469 Filed 7-11-01; 8:45 am]

BILLING CODE 6560-50-P